COMMISSION OF FINE ARTS

Notice of Schedule of Meetings

Listed below are the schedule of meetings of the Commission of Fine Arts for 2004. The Commission's office is located at the National Building Museum, Suite 312, Judiciary Square, 401 F Street, NW., Washington, DC 20001-2728. The meetings are held on the 3rd Thursday of each month, excluding August. Items of discussion affecting the appearance of Washington, DC, may include buildings, parks and memorials.

Draft agendas and additional information regarding the Commission are available on our Web site: www.cfa.gov. Inquiries regarding the agenda and requests to submit written or oral statements should be addressed to Charles H. Atherton, Secretary, Commission of Fine Arts, at the above address or call 202-504-2200. Individuals requiring sign language interpretation for the hearing impaired should contact the Secretary at least 10 days before the meeting date.

Dated in Washington, DC, September 29, 2003.
Charles H. Atherton,
Secretary.

Commission meetings | Submission deadlines
January 15 | December 31, 2003*.
February 19 | February 5.
March 18 | March 4.
April 15 | April 1.
May 20 | May 6.
June 17 | June 3.
July 15 | July 1.
September 21* | September 2.
October 21 | October 7.
November 18 | November 4.
December 16 | December 2.
*The 31 December 2003 Commission deadline and the 21 September Commission meeting have been changed from the regular Thursday dates because of proximity to holidays.

[FR Doc. 03-25624 Filed 10-8-03; 8:45 am]

BILLING CODE 6330-01-M